DEPARTMENT OF JUSTICE

Antitrust Division

Notice Pursuant to the National Cooperative Research and Production Act of 1993—American Massage Therapy Association

Notice is hereby given that, on June 24, 2013, pursuant to Section 6(a) of the National Cooperative Research and Production Act of 1993, 15 U.S.C. 4301 et seq. (“the Act”), American Massage Therapy Association (“AMTA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is American Massage Therapy Association, Evanston, IL. The nature and scope of AMTA's standards development activities are to develop, plan, establish, coordinate, and publish voluntary consensus standards applicable to the field of massage therapy.

Specifically, AMTA develops plans, establishes, coordinates, and publishes voluntary consensus standards in the form of basic standards for the entry-level curriculum necessary for safe and competent practice in an early massage career and the number of hours required to teach the essential components of the entry-level curriculum. AMTA develops and publishes these standards in cooperation with the Alliance for Massage Therapy Education, Associated Bodywork and Massage Professionals, the Commission on Massage Therapy Accreditation, The Federation of State Massage Therapy Boards, the Massage Therapy Foundation, and the National Certification Board for Therapeutic Massage and Bodywork. Through its standards development activities, AMTA seeks to ensure the highest quality of training and education in massage therapy. AMTA's standards development activities are ongoing in nature, and existing standards may be update and/or amended from time to time.

Patricia A. Brink,
Director of Civil Enforcement, Antitrust Division.

[FR Doc. 2013-17228 Filed 7-17-13; 8:45 am]

BILLING CODE 4410-11-P